DEPARTMENT OF THE INTERIOR

National Park Service

[NPS-WASO-NAGPRA-NPS0040011; PPWOCRADN0-PCU00RP14.R50000]

Notice of Intended Repatriation: History Colorado, Denver, CO

AGENCY: National Park Service, Interior.

ACTION: Notice.

SUMMARY: In accordance with the Native American Graves Protection and Repatriation Act (NAGPRA), History Colorado intends to repatriate certain cultural items that meet the definition of sacred objects and objects of cultural patrimony and that have a cultural affiliation with the Indian Tribes or Native Hawaiian organizations in this notice.

DATES: Repatriation of the cultural items in this notice may occur on or after May 30, 2025.

ADDRESSES: Chance Ward, History Colorado, 1200 N Broadway, Denver, CO 80203, telephone (303) 866-5751, email chance.ward@state.co.us.

SUPPLEMENTARY INFORMATION: This notice is published as part of the National Park Service's administrative responsibilities under NAGPRA. The determinations in this notice are the sole responsibility of History Colorado, and additional information on the determinations in this notice, including the results of consultation, can be found in the summary or related records. The National Park Service is not responsible for the determinations in this notice.

Abstract of Information Available

A total of one cultural item has been requested for repatriation. The sacred object/object of cultural patrimony is a headdress that belonged to Chief Black Coal of the Northern Arapaho Tribe. The headdress was taken from the Wind River reservation in Wyoming by Major Allen H. Jackson, when he was stationed at Fort Washakie in about 1882-1890. Major Jackson then gave the headdress to his daughter, Mary Jackson-English. Mary donated the headdress permanently to History Colorado (then the Colorado Historical Society) in 1968. The headdress was tested for hazardous materials in 2010 with results showing low amounts of bromine, arsenic, lead, and mercury.

Determinations

History Colorado has determined that:

• The one sacred object/object of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a clear connection between the cultural items described in this notice and the Northern Arapaho Tribe of the Wind River Reservation, Wyoming.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 30, 2025. If competing requests for repatriation are received, History Colorado must determine the most appropriate requestor prior to repatriation. Requests for joint repatriation of the cultural items are considered a single request and not competing requests. History Colorado is responsible for sending a copy of this notice to the Indian Tribes and Native Hawaiian organizations identified in this notice and to any other consulting parties.

Authority: Native American Graves Protection and Repatriation Act, 25 U.S.C. 3004 and the implementing regulations, 43 CFR 10.9.

Dated: April 15, 2025
Melanie O'Brien,
Manager, National NAGPRA Program.

[FR Doc. 2025-07426 Filed 4-29-25; 8:45 am]

BILLING CODE 4312-52-P